ENVIRONMENTAL PROTECTION AGENCY

40 CFR Parts 174 and 180

[EPA-HQ-OPP-2021-0088; FRL-10023-95]

Receipt of Pesticide Petitions Filed for Residues of Pesticide Chemicals in or on Various Commodities May 2021

AGENCY: Environmental Protection Agency (EPA).

ACTION: Filing of petitions and request for comment.

SUMMARY: This document announces the Agency's receipt of initial filings of pesticide petitions requesting the establishment or modification of regulations for residues of pesticide chemicals in or on various commodities.

DATES: Comments must be received on or before July 1, 2021.

ADDRESSES: Submit your comments, identified by docket identification (ID) number and the pesticide petition (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Marietta Echeverria, Registration Division (7505P), main telephone number: (703) 305-7090, email address: RDFRNotices@epa.gov; or Charles Smith, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain data or information prescribed in FFDCA section 408(d)(2), 21 U.S.C. 346a(d)(2); however, EPA has not fully evaluated the sufficiency of the submitted data at this time or whether the data supports granting of the pesticide petitions. After considering the public comments, EPA intends to evaluate whether and what action may be warranted. Additional data may be needed before EPA can make a final determination on these pesticide petitions.

Pursuant to 40 CFR 180.7(f), summaries of the petitions that are the subject of this document, prepared by the petitioners, are included in dockets EPA has created for these rulemakings. The dockets for these petitions are available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

A. Amended Tolerance Exemptions for Inerts (Except PIPS)

PP IN-11493. (EPA-HQ-OPP-2021-0274). ADAMA Makhteshim, Ltd. c/o Makhteshim Agan of North America d/b/a ADAMA, 3120 Highwoods Blvd., Suite 100, Raleigh, NC 27604, requests to amend an exemption from the requirement of a tolerance in 40 CFR 180.920 for residues of acetophenone (CAS Reg. No. 98-86-2) when used as an inert ingredient in pesticide formulations applied to growing crops. The petitioner believes no analytical method is needed because it is not required for an exemption from the requirement of a tolerance. Contact: RD.

B. Amended Tolerances for Inerts

PP IN-11407. (EPA-HQ-OPP-2021-0185). Management Contract Services, Inc. on behalf of Landis International, Inc., P.O. Box 5126, Valdosta, GA 31603, requests to amend the tolerance in 40 CFR 180.460 for residues of Benoxacor (2,2-dichloro-1-(3-methyl-2,3-dihydro-1,4-benzoxazin-4-yl) ethenone) (CAS Reg. No. 98730-04-2) when used as a pesticide inert ingredient (safener) in pesticide formulations to include any herbicide in or on raw agricultural commodities for which tolerances have been established for those active ingredients at 0.01 parts per million (ppm). Adequate enforcement methodology, GC/NPD, is available to enforce the tolerance expression. The analytical methodology for the determination of benoxacor and its metabolites in plant and animal commodities is Ciba Analytical Method AG536(C). Contact: RD.

C. New Tolerance Exemptions for Inerts (Except PIPS)

1. PP IN-11401. (EPA-HQ-OPP-2021-0308). The Innovative Reform Group on behalf of The Clorox Company, P.O. Box 493, Pleasanton, CA 94566-0803, requests to establish an exemption from the requirement of a tolerance under 40 CFR part 180.940(a) for residues of various fragrance components (CAS Reg No. multiple) when used as inert ingredients in antimicrobial pesticide formulations for use on food contract surfaces in public eating places, dairy processing equipment, and food processing equipment and utensils at end-use concentrations not to exceed 33 ppm. Contact: RD.

2. PP IN-11402. (EPA-HQ-OPP-2021-0311). The Innovative Reform Group on behalf of The Clorox Company, P.O. Box 493, Pleasanton, CA 94566-0803, requests to establish an exemption from the requirement of a tolerance under 40 CFR part 180.940(a) for residues of various fragrance components (CAS Reg No. multiple) when used as inert ingredients in antimicrobial pesticide formulations for use on food contract surfaces in public eating places, dairy processing equipment, and food processing equipment and utensils at end-use concentrations not to exceed 5 ppm. Contact: RD.

3. PP IN-11409. (EPA-HQ-OPP-2021-0321). Evonik Corporation, 299 Jefferson Road, Parsippany, NJ 07054, requests to establish an exemption from the requirement of a tolerance for residues of Silane, hexadecyltrimethoxy-, hydrolysis products with silica (CAS Reg. No. 199876-45-4) when used as a pesticide inert ingredient (stabilizer) in pesticide formulations under 40 CFR part 180.910 and 180.950. The petitioner believes no analytical method is needed because it is not required for an exemption from the requirement of a tolerance. Contact: RD.

4. IN-11410. (EPA-HQ-OPP-2021-0292). Spring Regulatory Sciences (6620 Cypresswood Dr., Suite 250 Spring, TX 77379) on behalf of Earth Science Laboratories, Inc., (113 SE 22nd Street, Suite 1, Bentonville, AR 72712) requests to establish an exemption from the requirement of a tolerance for residues of polyammonium bisulfate (CAS Reg. No. 10043-02-4) to include the use as an inert ingredient (carrier, adjuvant, buffer and stabilizer) applied to growing crops pre- and post-harvest under 40 CFR part 180.910 and in antimicrobial formulations applied to food-contact surfaces in public eating places, dairy-processing equipment, and food-processing equipment and utensils under 40 CFR part 180.940(a). The petitioner believes no analytical method is needed because it is not required for an exemption from the requirement of a tolerance. Contact: RD.

5. PP IN-11458. (EPA-HQ-OPP-2021-0273). Ingredion Incorporated, 5 Westbrook Corporate Center, Westchester, IL 60154, requests to establish an exemption from the requirement of a tolerance for residue of starch, 1-octenylbutanedioate, aluminum salt (CAS Reg. No. 9087-61-0) when used as an inert ingredient in pesticide formulations applied to growing crops under 40 CFR 180.920. The petitioner believes no analytical method is needed because it is not required for an exemption from the requirement of a tolerance. Contact: RD.

6. PP IN-11514. (EPA-HQ-OPP-2021-0320). Spring Regulatory Sciences, 6620 Cypresswood Dr, Suite 250, Spring, TX 77379 on behalf of Nouryon Chemicals LLC, requests to establish an exemption from the requirement of a tolerance in 40 CFR part 180.960 for residues of Glycerides, soya mono- and di-ethoxylated (CAS Reg. No. 68553-06-0) when used as a pesticide inert ingredient in pesticide formulations Joint Inerts Task Force Cluster Support. The petitioner believes no analytical method is needed because it is not required for an exemption from the requirement of a tolerance. Contact: RD.

7. PP IN-11515. (EPA-HQ-OPP-2021-0323). Spring Regulatory Sciences, 6620 Cypresswood Dr., Suite 250, Spring, TX 77379 on behalf of Nouryon Chemicals LLC, requests to establish an exemption from the requirement of a tolerance in 40 CFR part 180.910 and 180.930 for residues of Oxirane, 2-methyl-, polymer with oxirane, mono-C9-11-isoalkyl ethers, C10-rich, phosphates, potassium salts (CAS Reg. No. 2275654-37-8) when used as a pesticide inert ingredient in pesticide formulations Joint Inerts Task Force Cluster Support. The petitioner believes no analytical method is needed because it is not required for an exemption from the requirement of a tolerance. Contact: RD.

D. New Tolerance Exemptions for Non-Inerts (Except PIPS)

PP 0F8851. (EPA-HQ-OPP-2021-0232). Biofungitek, S.L., Parque Científico y Tecnológico de Bizkaia, Astondo Bidea (Building 612), 48160 Derio, Spain (c/o Compliance Services International, 7501 Bridgeport Way West, Lakewood, WA 94899), requests to establish an exemption from the requirement of a tolerance in 40 CFR part 180 for residues of the biochemical fungicide potassium carbonate in or on all agricultural food commodities. The petitioner believes no analytical method is needed because the requirement is not applicable as an exemption from tolerance has been submitted. Potassium carbonate, a salt occurring abundantly in nature, would dissociate into its component ions (potassium and carbonate) once dissolved in water for application. In turn, carbonate will be part of an equilibrium mixture of bicarbonate, carbonate, and carbonic acid.Being naturally abundant, these ions would add to the like ions that already exist in the environment. Potassium and carbonate ions would be indistinguishable from the natural background of inorganic ions. Contact: BPPD.

E. New Tolerances for Non-Inerts

1. PP 0E8888. (EPA-HQ-OPP-2021-0204). Interregional Research Project Number 4 (IR-4), IR-4 Project Headquarters, Rutgers, The State University of New Jersey, 500 College Road East, Suite 201 W, Princeton, NJ 08450, requests to establish a tolerance in 40 CFR 180.690 for residues of the fungicide, mandestrobin, 2-[(2,5-dimethylphenoxy)methyl]-α-methoxy-N-methylbenzeneacetamide in or on lettuce, head at 0.08 ppm, and lettuce, leaf at 4 ppm. The “Determination of S2200 and De-Xy-S-2200 in Crops,” Method RM-48C-2B, which uses LC-MS/MS, is used to measure and evaluate the chemical. Contact: RD.

2. PP 0E8881. (EPA-HQ-2021-0156). IR-4, Project Headquarters, Rutgers, The State University of New Jersey, 500 College Road East, Suite 201 W, Princeton, NJ 08450, requests to establish a tolerance in 40 CFR 180.337 for residues of the fungicide/bactericide, oxytetracycline, (4S,4aR,5S,5aR,6S,12aS)-4-(dimethylamino)-1,4,4a,5,5a,6,11,12a-octahydro-3,5,6,10,12,12a-hexahydroxy-6-methyl-1,11-dioxo-2-naphthacenecarboxamide, in or on the commodities olive at 0.1 ppm, walnut, black at 0.1 ppm and walnut, English at 0.1 ppm. A high-performance liquid chromatography method with tandem mass spectrometry detection (LC/MS/MS) is used to measure and evaluate the chemical. Contact: RD.

3. PP 1E8911. (EPA-HQ-OPP-2021-0213). IR-4, Rutgers, The State University of New Jersey, 500 College Road East, Suite 201 W, Princeton, NJ 08540, requests to establish a tolerance in 40 CFR part 180.434 for residues of the fungicide, propiconazole, (1-[[2-(2,4-dichlorophenyl)-4-propyl-1,3-dioxolan-2-yl]methyl]-1H-1,2,4-triazole) and its metabolites determined by measuring only those propiconazole residues convertible to 2,4-dichlorobenzoic acid (2,4-DCBA) in or on the raw agricultural commodity vegetable, brassica, head and stem, group 5-16 at 4 ppm. Analytical methods AG-626 and AG-454A were developed for the determination of residues of propiconazole and its metabolites containing the DCBA moiety and are used to measure and evaluate the chemical. Contact: RD.

4. PP 0F8838. (EPA-HQ-OPP-2020-0728). Valent U.S.A. LLC, 1600 Riviera Avenue, Suite 200, Walnut Creek, CA 94596 requests to establish a tolerance in 40 CFR part 180 for residues of the fungicide fluopicolide in or on the following commodities: Cereal grains (crop group 15), aspirated grain fractions at 0.07 ppm; cereal grains (crop group 15), grain at 0.02 ppm; cereal grains (crop group 15), milled byproducts at 0.07 ppm; cotton gin byproducts at 0.20 ppm; foliage of legume vegetables (crop group 7), forage at 0.15 ppm; foliage of legume vegetables (crop group 7), hay, straw, and vines at 0.20 ppm; forage, fodder and straw of cereal grains (crop group 16) at 0.50 ppm; grass forage, fodder, and hay (crop group 17) at 0.50 ppm; legume vegetables (crop group 6), seed, pea, bean (succulent or dried, except listed beans) at 0.03 ppm; nongrass animal feeds (crop group 18), forage, fodder, straw and hay at 0.50 ppm; oilseeds (crop group 20), refined oil at 0.10 ppm; oilseeds (crop group 20), seed at 0.04 ppm; peanut hay at 0.60 ppm; peanut nutmeat at 0.04 ppm; peanut, refined oil at 0.10 ppm; soybean refined oil at 0.08 ppm. Practical analytical methods for detecting and measuring levels of fluopicolide and its metabolites have been developed and validated in/on all appropriate plant and animal matrices. Contact: RD.

5. PP 9F8777. (EPA-HQ-OPP-2019-0542). Syngenta Crop Protection, LLC, P.O. Box 18300, Greensboro, NC 27419, requests to establish a tolerance in 40 CFR part 180 for residues of the herbicide, bicyclopyrone, in or on lemongrass, dried at 0.5 ppm; lemongrass, fresh at 0.3 ppm; rosemary, dried at 0.3 ppm; rosemary, fresh at 0.03 ppm; wormwood, dried at 0.09 ppm and wormwood, fresh at 0.05 ppm. The Analytical methods GRM030.05A, GRM030.05B, GRM030.08A is used to measure and evaluate the chemical Bicyclopyrone. Contact: RD.

Authority: 21 U.S.C. 346a.

Dated: May 12, 2021.
Delores Barber,
Director, Information Technology and Resources Management Division, Office of Program Support.

[FR Doc. 2021-11315 Filed 5-28-21; 8:45 am]

BILLING CODE 6560-50-P